FEDERAL DEPOSIT INSURANCE CORPORATION

Agency Information Collection Activities: Submission for OMB Review; Comment Request

AGENCY: Federal Deposit Insurance Corporation.

ACTION: Notice of new information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) for review and approval the information collection system described below.

DATES: Comments on this collection of information are welcome and should be submitted on or before June 3, 2004 to both the OMB reviewer and the FDIC contact listed below.

ADDRESSES: Information about this submission, including copies of the proposed collection of information, may be obtained by calling or writing the FDIC contact listed below.

Leneta G. Gregorie, Counsel, Legal Division, (202) 898-3719, Federal Deposit Insurance Corporation, Room MB-3082, 550 17th Street, NW., Washington, DC 20429. All comments should refer to the “SEEP Application.” Comments may be hand-delivered to the guard station at the rear of the 17th Street Building (located on F Street), on business days between 7 a.m. and 5 p.m.

A copy of the comments may also be submitted to the OMB desk officer for the FDIC: Mark Menchik, Office of Management and Budget, Office of Information and Regulatory Affairs, New Executive Office Building, Room 10235, Washington, DC 20503.

FOR FURTHER INFORMATION CONTACT: Leneta G. Gregorie, at the address identified above.

SUPPLEMENTARY INFORMATION: Proposal to establish the following new collection of information:

Title: Student Educational Employment Program.

OMB Number: New Collection.

Frequency of Response: On occasion.

Affected Public: Students seeking employment with the FDIC.

Estimated Number of Respondents: 1,500.

Estimated Time per Response: 0.33 hours.

Total Annual Burden: 500 hours.

General Description of Collection: The application form used in this collection ensures that students seeking employment with FDIC as participants in either one of the two components of the Student Educational Employment Program (i.e., the Student Temporary Employment Program (STEP) or the Student Career Experience Program (SCEP)) meet the government-wide eligibility criteria established by the Office of Personnel Management as well as the internal eligibility criteria established by the FDIC. The information collected will include information on the applicant's coursework, grade point averages, and relationship to any FDIC employee.

Request for Comment

Comments are invited on: (a) Whether this collection of information is necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Dated: April 28, 2004.
Federal Deposit Insurance Corporation.
Robert E. Feldman,
Executive Secretary.

[FR Doc. 04-10015 Filed 5-3-04; 8:45 am]

BILLING CODE 6714-01-P